DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than July 7, 2003.

Interested persons are invited to submit written comments regarding the subject matter of the investigations to the Director, Division of Trade Adjustment Assistance, at the address shown below, not later than July 7, 2003.

The petition filed in this case are available for inspection at the Office of the Director, Division of Trade Adjustment Assistance, Employment and Training Administration, U.S. Department of Labor, Room C-5311, 200 Constitution Avenue, NW., Washington, DC 20210.

Signed at Washington, DC, this 13th day of June 2003.
Timothy Sullivan,
Director, Division of Trade Adjustment Assistance.

Appendix
[Petitions instituted between 05/28/2003 and 05/30/2003]
TA-W | Subject firm (petitioners) | Location | Date of institution | Date of petition
51,862 | Fishing Vessel (F/V) Sharon W (Comp) | Kodiak, AK | 05/28/2003 | 05/27/2003
51,863 | Fishing Vessel (F/V) Amber J (Comp) | Juneau, AK | 05/28/2003 | 05/27/2003
51,864 | Fishing Vessel (F/V) Seafarer (Comp) | Sitka, AK | 05/28/2003 | 05/08/2003
51,865 | F/V Puda Vida (Comp) | Kodiak, AK | 05/28/2003 | 05/11/2003
51,866 | General Electric Transportations (Wkrs) | Grain Valley, MO | 05/28/2003 | 05/23/2003
51,867 | Federal Mogul Corporation (Comp) | El Paso, TX | 05/28/2003 | 05/23/2003
51,868 | Apparel Cutting, Inc. (Wkrs) | Medley, FL | 05/28/2003 | 05/17/2003
51,869 | Curtis Papers (Comp) | Milford, NJ | 05/28/2003 | 05/19/2003
51,870 | McKenzie Forest Products (OR) | Springfield, OR | 05/28/2003 | 05/21/2003
51,871 | Citation Corporation (USWA) | Camden, TN | 05/28/2003 | 05/23/2003
51,872 | Johnson and Johnson Wound Management (UFCW) | Sherman, TX | 05/28/2003 | 05/27/2003
51,873 | AlphaThought/Provider Business Services (Wkrs) | Pittsburgh, PA | 05/28/2003 | 05/27/2003
51,874 | Flow Controls (Comp) | St. Louis, MO | 05/28/2003 | 05/27/2003
51,875 | Sony Corp. (OR) | Eugene, OR | 05/28/2003 | 05/20/2003
51,876 | Straits Steel and Wire (Comp) | Ludington, MI | 05/28/2003 | 05/22/2003
51,877 | Peak Oilfield Service Company (Comp) | Anchorage, AK | 05/28/2003 | 05/27/2003
51,878 | Ark-Les Electronics Products Corp. (Wkr) | Gloucester, MA | 05/28/2003 | 05/12/2003
51,879 | Monarch Ware, Inc. (Comp) | Algoma, WI | 05/28/2003 | 05/27/2003
51,880 | Infocus Corp. (Wkrs) | Wilsonville, OR | 05/28/2003 | 05/08/2003
51,881 | Centis, Inc. (Comp) | Niles, MI | 05/28/2003 | 05/20/2003
51,882 | BASF Corp. (Comp) | Hannibal, MO | 05/28/2003 | 05/21/2003
51,883 | Rossville/Chromatex (Wkrs) | Chattanooga, TN | 05/28/2003 | 05/22/2003
51,884 | Louisiana Pacific Corp. (Comp) | Belgrade, MT | 05/28/2003 | 05/27/2003
51,885 | Tyco Healthcare (Comp) | Lafayette, IN | 05/28/2003 | 05/27/2003
51,886 | General Elecrtric Co. (IUE) | Tell City, IN | 05/28/2003 | 05/27/2003
51,887 | Starline Manufacturing (Wkrs) | Milwaukee, WI | 05/28/2003 | 05/23/2003
51,888 | Mid South Footwear (AR) | Manila, AR | 05/28/2003 | 05/27/2003
51,889 | Sommer Products (Wkrs) | Bartonville, IL | 05/28/2003 | 05/23/2003
51,890 | CTNA (USWA) | Mayfield, KY | 05/28/2003 | 05/27/2003
51,891 | O'Sullivan Ind. of VA, Inc. (Comp) | South Boston, VA | 05/29/2003 | 05/29/2003
51,892 | Hart Marx—International Women's Apparel (Wkr) | Easton, PA | 05/29/2003 | 05/19/2003
51,893 | Ferraz Shawmut, Inc. (IBEW) | Newburyport, MA | 05/29/2003 | 05/28/2003
51,894 | Kansa Corporation (Wkrs) | Emporia, KS | 05/29/2003 | 05/21/2003
51,895 | TRW Automotive (Comp) | Sparks, NV | 05/29/2003 | 05/29/2003
51,896 | ADI/Ademco (Wkrs) | Melville, NY | 05/29/2003 | 05/28/2003
51,897 | Yellow Book USA (Comp) | Effingham, IL | 05/29/2003 | 05/27/2003
51,898 | MRC Bearings, SKF USA Inc. (UAW) | Jamestown, NY | 05/29/2003 | 05/21/2003
51,899 | Style Setter Fashions, Inc. (Comp) | Philadelphia, PA | 05/29/2003 | 05/28/2003
51,900 | Manastrip Corporation (Comp) | Rexford, NY | 05/29/2003 | 03/07/2003
51,901 | J.J. Mac Inc. dba Rainbeau (Wkrs) | San Francisco, CA | 05/29/2003 | 05/19/2003
51,902 | River Ltd. (Comp) | Fall River, MA | 05/29/2003 | 05/27/2003
51,903 | Nistem Corporation (Comp) | San Diego, CA | 05/29/2003 | 05/16/2003
51,904 | Primanex Corporation (Wkrs) | Fremont, CA | 05/29/2003 | 05/20/2003
51,905 | Roane Hosiery (Wkrs) | Harriman, TN | 05/29/2003 | 05/22/2003
51,906 | Central Brass Manufacturing Company (Wkrs) | Cleveland, OH | 05/29/2003 | 05/22/2003
51,907 | Broyhill Furniture (Wkrs) | Taylorsville, NC | 05/30/2003 | 05/29/2003
51,908 | C M Offray, Inc. (MD) | Hagerstown, MD | 05/30/2003 | 05/29/2003
51,909 | Inman Mills (Comp) | Inman, SC | 05/30/2003 | 05/28/2003
51,910 | Southwest Wind Power (MN) | Duluth, MN | 05/30/2003 | 05/27/2003
51,911 | TSI of Florida (Comp) | Riverview, FL | 05/30/2003 | 05/16/2003
51,912 | Tecumseh (IAMAW) | Grafton, WI | 05/30/2003 | 05/28/2003
51,913 | Metz and Associates (Wkrs) | Dallas, PA | 05/30/2003 | 05/23/2003

[FR Doc. 03-15862 Filed 6-23-03; 8:45 am]

BILLING CODE 4510-30-P-M